DEPARTMENT OF TRANSPORTATION

National Highway Traffic Safety Administration

[DOT-NHTSA-2022-0104]

National Emergency Medical Services Advisory Council Notice of Public Meeting

AGENCY: National Highway Traffic Safety Administration, U.S. Department of Transportation (DOT).

ACTION: Notice of public meeting.

SUMMARY: This notice announces a meeting of the National Emergency Medical Services Advisory Council (NEMSAC).

DATES: This meeting will be held in-person and simultaneously transmitted via virtual interface. It will be held on February 15-16, 2023, from 12 p.m. to 5 p.m. ET. Pre-registration is required to attend this meeting. A link permitting access to the meeting will be distributed to registrants within 24 hours of the meeting start time. If you wish to speak during the meeting, you must submit a written copy of your remarks to DOT by February 2, 2023.

Notifications containing specific details for this meeting will be published in the Federal Register no later than 30 days prior to the meeting dates.

ADDRESSES: General information about the Council is available on the NEMSAC internet website at www.ems.gov. The registration portal and meeting agenda will be available on the NEMSAC internet website at www.ems.gov at least one week in advance of the meeting.

FOR FURTHER INFORMATION CONTACT: Clary Mole, EMS Specialist, National Highway Traffic Safety Administration, U.S. Department of Transportation is available by phone at (202) 868-3275 or by email at Clary.Mole@dot.gov. Any committee-related requests should be sent to the person listed in this section.

SUPPLEMENTARY INFORMATION:

I. Background

The NEMSAC was established pursuant to Section 31108 of the Moving Ahead for Progress in the 21st Century (MAP-21) Act of 2012, under the Federal Advisory Committee Act. The purpose of NEMSAC is to serve as a nationally recognized council of emergency medical services (EMS) representatives to provide advice and consult with:

a. The Federal Interagency Committee on Emergency Medical Services (FICEMS) on matters relating to EMS issues; and

b. The Secretary of Transportation on matters relating to EMS issues affecting DOT.

The NEMSAC provides an important national forum for the non-Federal deliberation of national EMS issues and serves as a platform for advice on DOT's national EMS activities. NEMSAC also provides advice and recommendations to the FICEMS. NEMSAC is authorized under Section 31108 of the MAP-21 Act of 2012, codified at 42 U.S.C. 300d-4.

II. Agenda

At the meeting, the agenda will cover the following topics:

• Updates from Federal Emergency Medical Services Liaisons

• Updates on the FICEMS Initiatives

• Updates on NHTSA Initiatives

• Subcommittee Reports

III. Public Participation

This meeting will be open to the public. We are committed to providing equal access to this meeting for all participants. Persons with disabilities in need of an accommodation should send a request to the individual in the FOR FURTHER INFORMATION CONTACT section of this notice no later than February 2, 2023.

A period of time will be allotted for comments from members of the public joining the meeting. Members of the public may present questions and comments to the Council using the live chat feature available during the meeting. Members of the public may also submit materials, questions, and comments in advance to the individual listed in the FOR FURTHER INFORMATION CONTACT section of this notice.

Members of the public wishing to reserve time to speak directly to the Council during the meeting must submit a request. The request must include the name, contact information (address, phone number, and email address), and organizational affiliation of the individual wishing to address NEMSAC; it must also include a written copy of prepared remarks and must be forwarded to the individual listed in the FOR FURTHER INFORMATION CONTACT section of this notice no later than February 2, 2023.

All advance submissions will be reviewed by the Council Chairperson and Designated Federal Officer. If approved, advance submissions shall be circulated to NEMSAC representatives for review prior to the meeting. All advance submissions will become part of the official record of the meeting.

Authority: 42 U.S.C. 300d-4(b); 49 CFR part 1.95(i)(4).

Nanda Narayanan Srinivasan,
Associate Administrator, Research and Program Development.

[FR Doc. 2022-27354 Filed 12-15-22; 8:45 am]

BILLING CODE 4910-59-P